DEPARTMENT OF COMMERCE

National Oceanic and Atmospheric Administration

[I.D. 032000E]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Groundfish, Research Steering and Herring Committees in April, 2000. Recommendations from these groups will be brought to the full Council for formal consideration and action, if appropriate.

DATES: The meetings will be held between April 11, 2000 and April 27, 2000. See SUPPLEMENTARY INFORMATION for specific dates and times.

ADDRESSES: The meetings will be held in Mansfield and Danvers, MA. See SUPPLEMENTARY INFORMATION for specific locations.

FOR FURTHER INFORMATION CONTACT: Paul J. Howard, Executive Director, New England Fishery Management Council; (978) 465-0492.

SUPPLEMENTARY INFORMATION:

Meeting Dates and Agendas

Tuesday, April 11, 2000 at 9:30 a.m.—Groundfish Committee Meeting

Location: Holiday Inn, 31 Hampshire Street, Mansfield, MA 02048; telephone: (508) 339-2200.

The committee will continue development of management options for Amendment 13 to the Northeast Multispecies Fishery Management Plan (FMP). Agenda items include discussion of guidance received from the full Council concerning overfishing definitions and control rules. Current overfishing definitions and control rules for the multispecies complex will be reviewed and the assumptions and policy decisions in those rules examined. The committee will determine the biological goals of the amendment in light of these discussions. The committee also will organize into subcommittees that will be tasked to develop specific management options for consideration by the full committee. These tasks will be based on broad approaches to management selected by the committee.

Tuesday, April 12, 2000, 9 a.m.—Research Steering Committee Meeting

Location: Sheraton Ferncroft Hotel, 50 Ferncroft Road, Danvers, MA 01923; telephone: (978) 777-2500.

The committee will discuss and establish a method to score concept papers received in response to a Request for Information (RFI) distributed by NMFS. The RFI was developed as part of a program to fund collaborative research projects developed by fishermen and scientists to investigate scientific and management questions related to groundfish management in the Northeast. The committee also will develop a procedure to evaluate scallop research proposals to be funded through the Total Allowable Catch set-aside approved by the Council in Framework 13 to the Atlantic Sea Scallop FMP. Additionally, if it is determined to be appropriate and time allows, the committee may begin review of the concept papers received in response to the RFI.

Tuesday, April 25, 2000, 9:00 a.m. and Wednesday, April 26, 2000, 8:30 a.m.—Research Steering Committee Meeting

Location: Sheraton Ferncroft Hotel, 50 Ferncroft Road, Danvers, MA 01923; telephone: (978) 777-2500.

The committee will review and evaluate concept papers submitted to NMFS in response to a Request for Information distributed by NMFS in early March. The RFI was developed as part of a program to fund collaborative research projects developed by fishermen and scientists to investigate scientific and management questions related to groundfish management in the Northeast. Results of this meeting will be discussed at the next full Council scheduled for May 3-4, 2000.

Thursday, April 27, 2000, 10:00 a.m.—Joint New England Fishery Management Council and Atlantic States Marine Fisheries Commission (ASMFC) Herring Section Meeting

Location: Sheraton Ferncroft Hotel, 50 Ferncroft Road, Danvers, MA 01923; telephone: (978) 777-2500.

The two committees will review the comments received from the public during the scoping process for a limited entry or controlled access system for the Atlantic herring fishery. Based on this review, the committees will decide how to proceed in the development of such a system, and will develop a schedule for and provide initial direction to the Plan Development Team (PDT) should they choose to continue development of a limited entry or controlled access system. The committees will discuss options for the protection of spawning herring and will decide whether to make any revisions to the spawning restrictions contained in the ASMFC management plan, and whether to recommend spawning restrictions for the Council's Atlantic Herring FMP. The committees will discuss the impact of the total allowable catch on industry sectors and will determine what action, if any, should be taken to insure the fixed gear sector has access to the fishery. The committees may also discuss the annual specification process and may provide direction to the PDT on how that process should proceed.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see FOR FURTHER INFORMATION CONTACT) at least 5 days prior to the meeting dates.

Dated: March 21, 2000.
Bruce C. Morehead,
Acting Director, Office of Sustainable Fisheries, National Marine Fisheries Service.

[FR Doc. 00-7500 Filed 3-24-00; 8:45 am]

BILLING CODE 3510-22-F